ENVIRONMENTAL PROTECTION AGENCY

40 CFR Part 62

[FRL-7629-7; LA-66-1-7598b]

Approval and Promulgation of State Plans for Designated Facilities and Pollutants: Louisiana; Plan for Controlling Emissions From Existing Commercial and Industrial Solid Waste Incinerators

AGENCY: Environmental Protection Agency (EPA).

ACTION: Proposed rule.

SUMMARY: The Environmental Protection Agency (EPA) is proposing a direct final approval of the sections 111(d)/129 State Plan submitted by the Louisiana Department of Environmental Quality (LDEQ) on February 18, 2003. The State Plan establishes emission limits, monitoring, operating, and recordkeeping requirements for commercial and industrial solid waste incinerator (CISWI) units for which construction commenced on or before November 30, 1999.

DATES: Written comments must be received by April 2, 2004.

ADDRESSES: Comments may be submitted electronically, by mail, by facsimile, or through hand delivery/courier by following the detailed instructions provided under the “Public Participation” heading in the Supplemental Information section of direct final rule located in the “Rules and Regulations” section of this Federal Register.

FOR FURTHER INFORMATION CONTACT: Mr. Kenneth W. Boyce, Air Planning Section, Environmental Protection Agency, Region 6, 1445 Ross Avenue, Suite 700, Dallas, Texas 75202-2833, at (214) 665-7259 or boyce.kenneth@epa.gov.

SUPPLEMENTARY INFORMATION: In the “Rules and Regulations” section of this Federal Register, EPA is approving Louisiana's Sections 111(d)/129 State Plan as a direct final rule without prior proposal because EPA views this as a noncontroversial submittal and anticipates no adverse comment. The EPA has explained its reasons for this approval in the preamble to the direct final rule. If EPA receives no relevant adverse comment, EPA will not take further action on this proposed rule. If EPA receives relevant adverse comments, the direct final rule will be withdrawn and all public comments received will be addressed in a subsequent final rule based on this proposed rule. EPA will not institute a second comment period. Any parties interested in commenting must do so at this time. Please note that if EPA receives adverse comment on an amendment, paragraph, or section of this rule and if that provision may be severed from the remainder of the rule, EPA may adopt as final those provisions of the rule that are not the subject of an adverse comment.

For additional information, see the direct final rule located in the “Rules and Regulations” section of this Federal Register.

Dated: February 13, 2004.
Richard E. Greene,
Regional Administrator, Region 6.

[FR Doc. 04-4623 Filed 3-2-04; 8:45 am]

BILLING CODE 6560-50-U